DEPARTMENT OF STATE

22 CFR Parts 120, 122, 123, 124, and 129

[Public Notice: 11094]

International Traffic in Arms Regulations: Notification of Temporary Suspension, Modification, or Exception to Regulations

AGENCY: Department of State.

ACTION: Temporary suspensions, modifications, and exceptions.

SUMMARY: The Department of State is issuing this document to inform the public of certain temporary suspensions, modifications, and exceptions for the durations described herein to several provisions of the International Traffic in Arms Regulations (ITAR). These actions are taken in order to ensure continuity of operations within the Directorate of Defense Trade Controls (DDTC) and among entities registered with DDTC pursuant to the ITAR during the current SARS-COV2 public health emergency.

DATES: This document is issued May 1, 2020.

FOR FURTHER INFORMATION CONTACT: Sarah Heidema, Office of Defense Trade Controls Policy, U.S. Department of State, telephone (202) 663-1282, or email DDTCResponseTeam@state.gov. ATTN: Notice of Suspension, Modification, or Exception.

SUPPLEMENTARY INFORMATION: In order to ensure continuity of operations within the Directorate of Defense Trade Controls (DDTC) and among entities registered with DDTC pursuant to part 122 of the International Traffic in Arms Regulations (ITAR), DDTC provides notice of the temporary suspension, modification, or exception to several ITAR provisions. These actions are being taken pursuant to ITAR § 126.2, which allows for the temporary suspension or modification of provisions of the ITAR, and ITAR § 126.3, which allows for exceptions to provisions of the ITAR. These actions are in the interest of the security and foreign policy of the United States. Further, they are warranted as a result of the exceptional and undue hardships and risks to safety caused by the public health emergency related to the SARS-COV2 pandemic. The President declared a national emergency on March 13, 2020, as a result of this public health crisis.¹

¹ Proclamation 9994 of March 13, 2020, 85 FR 15337 (Mar. 18, 2020).

1. As of February 29, 2020, a temporary suspension, modification, and exception to the requirement in ITAR parts 122 and 129 to renew registration as a manufacturer, exporter, and/or broker and pay a fee on an annual basis by extending ITAR registrations with an expiration date of February 29, March 31, April 30, May 31, or June 30, 2020—for two (2) months from the original date of expiration.

2. As of March 13, 2020, a temporary suspension, modification, and exception to the limitations on the duration of ITAR licenses and agreements contained in ITAR parts 120 through 130, including but not necessarily limited to ITAR §§ 123.5(a), 123.21(a), and 129.6(e), to extend any license or agreement that expires between March 13, 2020 and May 31, 2020—for six (6) months from the original date of expiration so long as there is no change to the scope or value of the authorization and no Name/Address changes are required. This six (6) month extension is warranted in light of the unique challenges applicants face in the current environment when attempting to coordinate with U.S. and foreign business partners regarding the scope of applications.

3. As of March 13, 2020, a temporary suspension, modification, and exception to the requirement that a regular employee, for purposes of ITAR § 120.39(a)(2), work at the company's facilities, to allow the individual to work at a remote work location, so long as the individual is not located in Russia or a country listed in ITAR § 126.1. This suspension, modification, and exception shall terminate on July 31, 2020, unless otherwise extended in writing.

4. As of March 13, 2020, a temporary suspension, modification, and exception to authorize regular employees of licensed entities who are working remotely in a country not currently authorized by a technical assistance agreement, manufacturing license agreement, or exemption to send, receive, or access any technical data authorized for export, reexport, or retransfer to their employer via a technical assistance agreement, manufacturing license agreement, or exemption so long as the regular employee is not located in Russia or a country listed in ITAR § 126.1. This suspension, modification, and exception shall terminate on July 31, 2020, unless otherwise extended in writing.

Authority: 22 CFR 126.2 and 126.3

Zachary A. Parker,
Director, Office of Directives Management, U.S. Department of State.

[FR Doc. 2020-08839 Filed 4-30-20; 8:45 am]

BILLING CODE 4710-25-P